DEPARTMENT OF THE INTERIOR

Fish and Wildlife Service

Information Collection To Be Submitted to the Office of Management and Budget (OMB) for Approval

AGENCY: Fish and Wildlife Service, Interior.

ACTION: Notice, information collection.

The Office of Management and Budget (OMB) regulations at 5 CFR part 1320, which implement provisions of the Paperwork Reduction Act of 1995 (Public Law 104-13), require that interested members of the public and affected agencies have an opportunity to comment on information collection and recordkeeping activities (see 5 CFR 1320.8(d)). We will submit a request to OMB to renew its approval of the collection of information for the Federal Subsistence Hunt Application and Permit, Designated Hunter Permit Application and Report, and Federal Subsistence Fish/Shellfish Harvest/Designated Harvester Application. We are requesting a 3-year term of approval of this new information collection activity. Pursuant to our request for OMB approval of this new information collection, we invite comments on (1) whether the collection of information is necessary for the proper performance of our functions, including whether the information will have practical utility; (2) the accuracy of our estimate of burden, including the validity of the methodology and assumptions used, and (3) ways to enhance the quality, utility, and clarity of the information, including through the use of appropriate automated, electronic, mechanical, or other technological collection techniques or other forms of information technology.

DATES: Comments must be submitted on or before April 10, 2000.

ADDRESSES: Harvest Data Coordinator, Alaska Subsistence Office, 1011 East Tudor Road, Anchorage, Alaska 99503. Service Information Collection Clearance Officer, U.S. Fish and Wildlife Service, MS 224-ARLSQ, 1849 C Street, NW., Washington, DC 20240.

FOR FURTHER INFORMATION CONTACT: Charles Miller, Alaska Subsistence Office, 907/786-3888 or Rebecca Mullin, Service Information Collection Clearance Officer 703/358-2287.

Title: Federal Subsistence Hunt Application and Permit and Designated Hunter Permit Application and Permit.

OMB Approval Number: 1018-0075.

Service Form Number(s): 7-FW 1 and 7-FW 2.

Abstract: The Alaska National Interest Lands Conservation Act (ANILCA) and Fish and Wildlife Service regulations, found in 50 CFR 100, require that persons engaged in taking fish and wildlife must comply with reporting provisions of the Federal Subsistence Board. The harvest activity must be reported. In many cases, a special permit is required for the rural resident to be able to participate in special hunts. The harvest information is needed in order to evaluate subsistence harvest success; the effectiveness of season lengths, harvest quotas, and harvest restrictions; hunting patterns and practices; and hunter use. Once harvest success information is evaluated, the Federal Subsistence Board utilizes this information, along with other information, to set future seasons and harvest limits for Federal subsistence resource users. These seasons and harvest limits are set in order to meet the needs of subsistence hunters without adversely impacting the health of existing wildlife populations. The Federal Subsistence Hunt Application and Permit also provides a mechanism to allow Federal subsistence users the opportunity to participate in special hunts that are not available to the general public but are provided for by Title VIII of ANILCA. Both reports provide for the collection of the necessary information; however, the Designated Hunter Report is unique in that it allows the reporting of the harvest of multiple animals by a single hunter who is acting for others. The Designated Hunter Application and Permit also serves as a special permit allowing qualified subsistence users to harvest fish or wildlife for others. The collection of information is needed prior to the expiration of time periods established under 5 CFR 1320, and is essential to the missions of the Fish and Wildlife Service and the Federal Subsistence Board. Without this information public harm would occur as a result of the Service's inability to set subsistence seasons and harvest limits to meet users' needs without adversely impacting the health and the animal population.

Frequency: On occasion.

Title: Federal Subsistence Fish/Shellfish Harvest/Designated Harvester Application.

OMB Approval Number: (not yet assigned).

Service Form Number(s): 7-FW3.

Abstract: Under the Alaska National Interest Lands Conservation Act (ANILCA) allows the taking of fish and wildlife on public lands in Alaska for subsistence use. In order to take fish and wildlife in public lands for subsistence uses, users must possess and comply with the provisions of any pertinent permit, harvest tickets, or tags required by the State, or Federal permits, harvest tickets or tags as required by the Federal subsistence board (Board). All Alaskans who are residents of rural areas or communities are eligible to participate in subsistence taking of that stock or population under the regulations in 50 CFR 100. Information on the fisherman, qualified subsistence users fished for, the fish/shellfish harvested, and the location of harvest is needed by the board in making recommendations on subsistence use. Once harvest success information is evaluated, the Federal Subsistence Board utilizes this information, along with other information, to set future seasons and harvest limits for Federal subsistence resource users. These seasons and harvest limits are set in order to meet the needs of subsistence fisherman without adversely impacting the health of existing fish/shellfish populations. The Federal Subsistence Hunt Application and Permit also provides a mechanism to allow Federal subsistence users the opportunity to participate in special fishing opportunities that are not available to the general public but are provided for by Title VIII of ANILCA.

Description of Respondents: Individuals and households.

Estimated Completion Time: The reporting burden is estimated to be .25 hours or 15 minutes each.

Annual Responses: 5,200 (Federal Subsistence Hunt Application and Permit); 700 (Designated Hunter Permit Application and Report); 1,000 (Federal Subsistence Fish/Shellfish Harvest/Designated Harvester Application).

Total Annual Burden Hours: 1,725 hours.

Dated: February 2, 2000.
Thomas H. Boyd,
Acting Chairman, Federal Subsistence Board.

[FR Doc. 00-2901 Filed 2-8-00; 8:45 am]

BILLING CODE 4310-55-M